POSTAL SERVICE

Temporary Emergency Committee of the Board of Governors; Sunshine Act Meeting

DATE AND TIME: Thursday, February 8, 2018, at 9:00 a.m.; and Friday, February 9, at 8:30 a.m.

PLACE: Washington, DC, at U.S. Postal Service Headquarters, 475 L'Enfant Plaza, SW, in the Benjamin Franklin Room.

STATUS: Thursday, February 8, 2018, at 9:00 a.m.—Closed; Friday, February 9, at 8:30 a.m.—Open.

MATTERS TO BE CONSIDERED:

Thursday, February 8, 2018, at 9:00 a.m. (Closed)

1. Financial Matters.

2. Strategic Issues.

3. Executive Session—Discussion of prior agenda items and Board governance.

Friday, February 9, at 8:30 a.m. (Open)

1. Remarks of the Postmaster General and CEO and Chairman of the Temporary Emergency Committee of the Board.

2. Approval of Minutes of Previous Meetings.

3. Postal Quarter 1 Financial Report.

4. Postal Quarter 1 Service Performance Report.

5. Draft Agenda for the April 10, 2018 meetings.

CONTACT PERSON FOR MORE INFORMATION: Julie S. Moore, Secretary of the Board, U.S. Postal Service, 475 L'Enfant Plaza SW, Washington, DC 20260-1000. Telephone: (202) 268-4800.

Julie S. Moore,
Secretary.

[FR Doc. 2018-01936 Filed 1-26-18; 4:15 pm]

BILLING CODE 7710-12-P